INTERNATIONAL TRADE COMMISSION

[Investigation No. 337-TA-1146]

Certain Taurine (2-Aminoethanesulfonic Acid), Methods of Production and Processes for Making the Same, and Products Containing the Same; Commission Determination Not To Review an Initial Determination Terminating the Investigation in Its Entirety; Termination of Investigation

AGENCY: U.S. International Trade Commission.

ACTION: Notice.

SUMMARY: Notice is hereby given that the U.S. International Trade Commission (“Commission”) has determined not to review an April 10, 2019 initial determination (“ID”) (Order No. 8) terminating this investigation in its entirety based on the withdrawal of the complaint. The investigation is terminated.

FOR FURTHER INFORMATION CONTACT: Ron Traud, Office of the General Counsel, U.S. International Trade Commission, 500 E Street SW, Washington, DC 20436, telephone (202) 205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal at 202-205-1810.

SUPPLEMENTARY INFORMATION: On March 6, 2019, the Commission instituted this investigation under section 337 of the Tariff Act of 1930, as amended, 19 U.S.C. 1337 (“section 337”), based on a complaint filed on behalf of Vitaworks IP, LLC of North Brunswick, New Jersey; Vitaworks, LLC of North Brunswick, New Jersey; and Dr. Songzhou Hu of North Brunswick, New Jersey (collectively, “Vitaworks”). 84 FR 81110 (Mar. 6, 2019). The complaint alleges a violation of section 337 by reason of infringement of certain claims of U.S. Patent Nos. 9,573,890; 9,745,258; and 10,040,755. Id. The Commission's notice of investigation named twenty-seven respondents. Id. The Office of Unfair Import Investigations (OUII) is also a party in this investigation. Id.

On April 1, 2019, Vitaworks filed an unopposed motion pursuant to Commission Rule 210.21(a) seeking to terminate this investigation in its entirety based on the withdrawal of the complaint. On April 8, 2019, the respondents filed a response indicating that they do not oppose the motion and OUII filed a response supporting the motion.

On April 10, 2019, the presiding ALJ issued Order No. 8, the subject ID, which grants the motion. The ID finds that the motion complies with Commission Rule 210.21(a). The ID additionally finds that no extraordinary circumstances exist that would prevent termination of the investigation and that terminating the investigation is in the public interest. No petitions for review of the ID were filed.

The Commission has determined not to review the ID. This investigation is terminated.

The authority for the Commission's determination is contained in Section 337 of the Tariff Act of 1930, as amended (19 U.S.C. 1337), and in part 210 of the Commission's Rules of Practice and Procedure (19 CFR part 210).

By order of the Commission.
Issued: April 25, 2019.
Lisa Barton,
Secretary to the Commission.

[FR Doc. 2019-08768 Filed 4-30-19; 8:45 am]

BILLING CODE 7020-02-P